DEPARTMENT OF TRANSPORTATION

Federal Aviation Administration

14 CFR Part 71

[Docket No. FAA-2023-2194; Airspace Docket No. 23-ASO-19]

RIN 2120-AA66

Amendment of VOR Federal Airways V-5, V-47, V-97, V-128, V-275, and V-517, and United States Area Navigation (RNAV) Route T-315, and Revocation of VOR Federal Airway V-19 in the Vicinity of Cincinnati, KY

AGENCY: Federal Aviation Administration (FAA), DOT.

ACTION: Final rule.

SUMMARY: This action amends Very High Frequency Omnidirectional Range (VOR) Federal Airways V-5, V-47, V-97, V-128, V-275, and V-517, and United States (U.S.) Area Navigation (RNAV) Route T-315; and revokes VOR Federal Airway V-19. The FAA is taking this action due to the planned decommissioning of the VOR portion of the Cincinnati, KY (CVG), VOR/Tactical Air Navigation (VORTAC) navigational aid (NAVAID). The Cincinnati VOR is being decommissioned in support of the FAA's VOR Minimum Operational Network (MON) program.

DATES: Effective date 0901 UTC, June 12, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published an NPRM for Docket No. FAA-2023-2194 in the Federal Register (88 FR 77238; November 9, 2023), proposing to amend VOR Federal Airways V-5, V-47, V-97, V-128, V-275, and V-517, and U.S. RNAV Route T-315; and revoke VOR Federal Airway V-19 due to the planned decommissioning of the VOR portion of the Cincinnati, KY, VORTAC NAVAID. Interested parties were invited to participate in this rulemaking effort by submitting written comments on the proposal. No comments were received.

Differences From the NPRM

Subsequent the NPRM, the FAA published a final rule for Docket No. FAA-2023-1737 in the Federal Register (89 FR 42795; May 16, 2024), amending VOR Federal Airway V-128 by removing the airway segment between the Cincinnati, KY (reflected as OH in that final rule), VORTAC and the Charleston, WV, VORTAC. Additionally, that final rule amended U.S. RNAV Route T-315 by extending the route westward from the JARLO, WV, Waypoint (WP) to the JIMUR, KY, Fix and included the CALIF, KY, Fix and the ILILE, OH, WP in the extension. Those route amendments were effective July 11, 2024, and are included in this final rule.

Additionally, subsequent the NPRM, the FAA published a final rule for Docket No. FAA-2024-1848 in the Federal Register (90 FR 9216; February 10, 2025), amending VOR Federal Airway V-97 by removing the airway segment between the Dolphin, FL, VORTAC and the St. Petersburg, FL, VORTAC. That airway amendment is effective April 17, 2025, and is also included in this final rule.

Finally, the NPRM addressed the VOR Federal Airway V-97 proposed airway amendments in the preamble, but the “as amended” airway information did not match the description in the regulatory text for the airway. The proposed amendments to V-97 removed the airway segment between the Lexington, KY, VOR/Distance Measuring Equipment (VOR/DME) and the intersection of the Chicago Heights, IL, VORTAC 358° and DuPage, IL, VOR/DME 101° radials (NILES Fix). As amended, the correct V-97 airway description in the NPRM should have reflected the airway would extend between the Dolphin VORTAC and the intersection of the Pecan, GA, VOR/DME 357° and Vienna, GA, VORTAC 300° radials (PRATZ Fix); between the intersection of the Rome, GA, VORTAC 060° and Volunteer, TN, VORTAC 197° radials (NELLO Fix) and the Lexington VOR/DME; and between the Nodine, MN, VORTAC and the Gopher, MN, VORTAC. In light of the V-97 amendment made by Docket No. FAA-2024-1848 and the editorial correction noted in this paragraph, the V-97 description in the preamble discussion and the V-97 description in the regulatory text of this final rule include both differences.

Incorporation by Reference

VOR Federal Airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by amending VOR Federal Airways V-5, V-47, V-97, V-128, V-275, and V-517, and U.S. RNAV Route T-315; and revoking VOR Federal Airway V-19 due to the planned decommissioning of the VOR portion of the Cincinnati, KY, VORTAC. The ATS route actions are described below.

V-5: Prior to this final rule, V-5 extended between the Pecan, GA, VOR/Distance Measuring Equipment (VOR/DME) and the Athens, GA, VOR/DME; and between the New Hope, KY, VOR/DME and the Appleton, OH, VORTAC. The airway segment between the Louisville, KY, VORTAC and the Appleton VORTAC is removed due to the planned decommissioning of the VOR portion of the Cincinnati, OH, VORTAC. Additionally, the airway segment between the New Hope VOR/DME and the Louisville VORTAC is removed due to that airway segment overlapping V-513 that will remain charted and provide navigational guidance between the two NAVAIDs. As amended, the airway is changed to now extend between the Pecan VOR/DME and the Athens VOR/DME.

V-19: Prior to this final rule, V-19 extended between the Cincinnati, KY (reflected as OH in the current description), VORTAC and the Appleton, OH, VORTAC. The airway is revoked in its entirety.

V-47: Prior to this final rule, V-47 extended between the Cunningham, KY, VOR/DME and the Pocket City, IN, VORTAC; and between the Cincinnati, KY, VORTAC and the Flag City, OH, VORTAC. The airway segment between the Cincinnati VORTAC and the Rosewood, OH, VORTAC is removed due to the planned decommissioning of the VOR portion of the Cincinnati VORTAC. Additionally, the airway segment between the Cunningham VOR/DME and the Pocket City VORTAC is removed due to that airway segment overlapping both V-11 and V-305 that will remain charted and provide navigational guidance between the two NAVAIDs. As amended, the airway is changed to now extend between the Rosewood VORTAC and the Flag City VORTAC.

V-97: Prior to this final rule, V-97 extended between the St. Petersburg, FL, VORTAC and the intersection of the Pecan, GA, VOR/DME 357° and Vienna, GA, VORTAC 300° radials (PRATZ Fix); between the intersection of the Rome, GA, VORTAC 060° and Volunteer, TN, VORTAC 197° radials (NELLO Fix) and the intersection of the Chicago Heights, IL, VORTAC 358° and DuPage, IL, VOR/DME 101° radials (NILES Fix); and between the Nodine, MN, VORTAC and the Gopher, MN, VORTAC. The airspace below 2,000 feet mean sea level (MSL) outside the United States is excluded. The airway segment between the Lexington, KY, VOR/DME and the Shelbyville, IN, VOR/DME is removed due to the planned decommissioning of the VOR portion of the Cincinnati VORTAC. Additionally, the airway segment between the Shelbyville VOR/DME and the Chicago Heights VORTAC is also removed due to that airway segment overlapping V-51 that will remain charted and provide navigational guidance between the two NAVAIDs. Lastly, the airway segment between the Chicago Heights VORTAC and the intersection of the Chicago Heights VORTAC 358° and DuPage VOR/DME 101° radials (NILES Fix) is removed due to that airway segment overlapping V-7 that will remain charted and provide navigational guidance between the Chicago Heights VORTAC and the NILES Fix. As amended, the airway is changed to now extend between the St. Petersburg VORTAC and the intersection of the Pecan VOR/DME 357° and Vienna VORTAC 300° radials (PRATZ Fix), between the intersection of the Rome VORTAC 060° and Volunteer VORTAC 197° radials (NELLO Fix) and the Lexington VOR/DME, and between the Nodine VORTAC and the Gopher VORTAC.

V-128: Prior to this final rule, V-128 extended between the Brickyard, IN, VORTAC and the Cincinnati, KY (reflected as OH in the current description), VORTAC; and between the Charleston, WV, VORTAC and the Casanova, VA, VORTAC. The airway segment between the Brickyard VORTAC and the Cincinnati VORTAC is removed. As amended, the airway is changed to now extend between the Charleston VORTAC and the Casanova VORTAC.

V-275: Prior to this final rule, V-275 extended between the Cincinnati, KY, VORTAC and the intersection of the Dayton, OH, VOR/DME 007° and Flag City, OH, VORTAC 313° radials (KLOEE Fix). The airway segment between the Cincinnati VORTAC and the Dayton VOR/DME is removed. As amended, the airway is changed to now extend between the Dayton VOR/DME and the intersection of the Dayton VOR/DME 007° and Flag City VORTAC 313° radials (KLOEE Fix).

V-517: Prior to this final rule, V-517 extended between the Snowbird, TN, VORTAC and the Cincinnati, KY, VORTAC. The airway segment between the Falmouth, KY, VOR/DME and the Cincinnati VORTAC is removed. As amended, the airway is changed to now extend between the Snowbird VORTAC and the Falmouth VOR/DME.

T-315: Prior to this final rule, T-315 extended between the JIMUR, KY, Fix and the Burlington, VT, VORTAC. The route is extended westward from the JIMUR Fix to the Brickyard, IN, VORTAC. As amended, T-315 is changed to now extend between the Brickyard VORTAC and the Burlington VORTAC. The amended T-315 provides mitigation for the V-128 airway segment removed between the Brickyard, IN, VORTAC and the Cincinnati, KY, VORTAC addressed above. The full T-315 route description is listed in the regulatory text of this final rule.

The NAVAID radials listed in the VOR Federal Airway descriptions in the regulatory text of this final rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal Airways V-5, V-47, V-97, V-128, V-275, and V-517, and U.S. RNAV Route T-315, and revoking VOR Federal Airway V-19, due to the planned decommissioning of the VOR portion of the Cincinnati, KY, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-5 [Amended]

From Pecan, GA; Vienna, GA; Dublin, GA; to Athens, GA.

* * * * *

V-19 [Removed]

* * * * *

V-47 [Amended]

From Rosewood, OH; to Flag City, OH.

* * * * *

V-97 [Amended]

From St. Petersburg, FL; Seminole, FL; Pecan, GA; to INT Pecan 357° and Vienna, GA, 300° radials. From INT Rome, GA, 060° and Volunteer, TN, 197° radials; Volunteer; London, KY; to Lexington, KY. From Nodine, MN; to Gopher, MN. The airspace below 2,000 feet MSL outside the United States is excluded.

* * * * *

V-128 [Amended]

From Charleston, WV; to Casanova, VA.

* * * * *

V-275 [Amended]

From Dayton, OH; to INT Dayton 007° and Flag City, OH, 313° radials.

* * * * *

V-517 [Amended]

From Snowbird, TN; INT Snowbird 329° and London, KY, 141° radials; London; INT London 004° and Falmouth, KY, 164° radials; to Falmouth.

* * * * *

Paragraph 6011 United States Area Navigation Routes.

* * * * *

T-315 Brickyard, IN (VHP) to Burlington, VT (BTV) [Amended]
Brickyard, IN (VHP) | VORTAC | (Lat. 39°48′53.02″ N, long. 086°22′03.00″ W)
DECEE, IN | FIX | (Lat. 39°18′41.36″ N, long. 085°45′56.84″ W)
JADRO, IN | FIX | (Lat. 39°06′24.58″ N, long. 085°01′30.97″ W)
JIMUR, KY | FIX | (Lat. 39°01′17.62″ N, long. 084°41′02.13″ W)
CALIF, KY | FIX | (Lat. 38°56′01.97″ N, long. 084°18′38.27″ W)
ILILE, OH | WP | (Lat. 38°33′14.45″ N, long. 082°36′07.02″ W)
JARLO, WV | WP | (Lat. 38°20′58.85″ N, long. 081°46′11.68″ W)
SHANE, WV | FIX | (Lat. 37°58′31.15″ N, long. 080°48′24.34″ W)
DBRAH, VA | WP | (Lat. 37°20′34.14″ N, long. 080°04′10.75″ W)
SPNKS, VA | WP | (Lat. 37°17′21.31″ N, long. 079°33′17.14″ W)
KONRD, VA | WP | (Lat. 37°20′39.83″ N, long. 079°01′33.27″ W)
CRUMB, VA | FIX | (Lat. 37°28′09.44″ N, long. 078°08′27.69″ W)
Flat Rock, VA (FAK) | VORTAC | (Lat. 37°31′42.63″ N, long. 077°49′41.59″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, VA | WP | (Lat. 38°20′16.21″ N, long. 076°26′10.51″ W)
PRNCZ, MD | WP | (Lat. 38°37′38.10″ N, long. 076°05′08.20″ W)
CHOPS, MD | WP | (Lat. 38°45′41.81″ N, long. 075°57′36.18″ W)
COSHA, DE | WP | (Lat. 38°57′57.57″ N, long. 075°30′51.59″ W)
Atlantic City, NJ (ACY) | VORTAC | (Lat. 39°27′21.15″ N, long. 074°34′34.73″ W)
PANZE, NJ | FIX | (Lat. 39°40′33.58″ N, long. 074°10′05.45″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
TRANZ, NY | FIX | (Lat. 40°51′31.95″ N, long. 073°22′30.80″ W)
PUGGS, NY | WP | (Lat. 40°56′27.65″ N, long. 073°13′47.73″ W)
EEGOR, CT | WP | (Lat. 41°09′38.94″ N, long. 073°07′27.66″ W)
Hartford, CT (HFD) | VOR/DME | (Lat. 41°38′27.98″ N, long. 072°32′50.70″ W)
DVANY, CT | FIX | (Lat. 41°51′44.56″ N, long. 072°18′11.25″ W)
Gardner, MA (GDM) | VOR/DME | (Lat. 42°32′45.32″ N, long. 072°03′29.48″ W)
KEYNN, NH | WP | (Lat. 42°47′39.99″ N, long. 072°17′30.35″ W)
EBERT, VT | WP | (Lat. 43°32′58.08″ N, long. 072°45′42.43″ W)
Burlington, VT (BTV) | VOR/DME | (Lat. 44°23′49.58″ N, long. 073°10′57.49″ W)

* * * * *

Issued in Washington, DC, on March 11, 2025.
Brian Eric Konie,
Manager (A), Rules and Regulations Group.

[FR Doc. 2025-04400 Filed 3-19-25; 8:45 am]

BILLING CODE 4910-13-P